ENVIRONMENTAL PROTECTION AGENCY

[Docket# EPA-R4-SFUND 2011-3767, FRL-9486-9]

BCX Tank Superfund Site; Jacksonville, Duval County, FL; Notice of Settlement

AGENCY: Environmental Protection Agency.

ACTION: Notice of Settlement.

SUMMARY: Under Section 122(h)(1) of the Comprehensive Environmental Response, Compensation and Liability Act (CERCLA), the United States Environmental Protection Agency has entered into a settlement for reimbursement of past response costs concerning the BCX Tank Superfund Site located in Jacksonville, Duval County, Florida for publication.

DATES: The Agency will consider public comments on the settlement until December 5, 2011. The Agency will consider all comments received and may modify or withdraw its consent to the settlement if comments received disclose facts or considerations which indicate that the settlement is inappropriate, improper, or inadequate.

ADDRESSES: Copies of the settlement are available from Ms. Paula V. Painter. Submit your comments by Site name BCX Tank Superfund Site by one of the following methods:

• http://www.epa.gov/region4/waste/sf/enforce.htm.

• Email: Painter.Paula@epa.gov.

FOR FURTHER INFORMATION CONTACT: Paula V. Painter at 404/562-8887.

Dated: October 6, 2011.
Anita L. Davis,
Chief, Superfund Enforcement & Information Management Branch, Superfund Division.

[FR Doc. 2011-28637 Filed 11-3-11; 8:45 am]

BILLING CODE 6560-50-P